DEPARTMENT OF HEALTH AND HUMAN SERVICES

Food and Drug Administration

Wireless Technology Research; Effects of Radiofrequency Energy on Micronucleus Formation; Public Meeting

AGENCY: Food and Drug Administration, HHS.

ACTION: Notice of public meeting.

The Food and Drug Administration (FDA) is announcing the following meeting: Radiofrequency Micronucleus Working Group. This is the initial meeting of a working group of national and international scientific experts convened to review the results of studies, previously conducted by Wireless Technology Research, L.L.C., on the effects of radiofrequency energy on micronucleus formation, and to recommend a statement of work for additional research. This meeting is being convened as the initial step in a Cooperative Research and Development Agreement (CRADA) between the Center for Devices and Radiological Health of FDA and the Cellular Telecommunications Industry Association (CTIA), consistent with Appendix A of the CRADA. The meeting will be open to the public.

Date and Time: The meeting will be held on August 1, 2000, 8:30 a.m. to 5 p.m., and on August 2, 2000, 8:30 a.m. to 11:30 a.m.

Location: 9200 Corporate Blvd., rm 020-B, Rockville, MD 20850.

Contact: Russell Owen, Center for Devices and Radiological Health, Food and Drug Administration (HFZ-114), 12709 Twinbrook Pkwy., Rockville, MD 20857, 301-443-7118, FAX 301-594-6775. Further information about the CRADA is available at http://www.fda.gov/cdrh/ocd/wlessphonecrada.html on the Internet.

Agenda: On August 1, 2000, the working group will hear presentations related to radiofrequency exposure systems and dosimetry and prior reports of micronucleus formation in cells exposed to radiofrequency. On August 2, 2000, the working group will discuss the types of studies needed to further investigate and refine prior reports of micronucleus formation caused by radiofrequency exposure.

Procedure: Interested persons may present data, information, or views on issues to be discussed by the working group. Written submissions may be made to the contact person by July 14, 2000. Oral presentations from the public will be scheduled on August 1, 2000, between approximately 3 p.m. and 5 p.m. Time allotted for each presentation may be limited. Those desiring to make formal oral presentations should notify the contact person before July 14, 2000, and submit a brief statement of the general nature of the evidence or arguments they wish to present, the names and addresses of proposed participants, and an indication of the approximate time requested to make their presentation.

Transcripts: Transcripts of the meeting may be requested in writing from the Freedom of Information Office (HFI-35), Food and Drug Administration, 5600 Fishers Lane, rm. 12A-16, Rockville, MD 20857, approximately 15 working days after the meeting at a cost of 10 cents per page.

If you need special accommodations due to a disability, please contact Ms. Toni Fennell, 301-443-7118 at least 7 days in advance.

Dated: June 29, 2000.
Linda S. Kahan,
Deputy Director for Regulations Policy, Center for Devices and Radiological Health.

[FR Doc. 00-17277 Filed 7-7-00; 8:45 am]

BILLING CODE 4160-01-F